DEPARTMENT OF THE INTERIOR

Bureau of Land Management

[LLCO956000 L14400000.BJ0000 16X]

Notice of Filing of Plats of Survey; Colorado

AGENCY: Bureau of Land Management, Interior.

ACTION: Notice of Filing of Plats of Survey; Colorado.

SUMMARY: The Bureau of Land Management (BLM) Colorado State Office is publishing this notice to inform the public of the intent to officially file the survey plats listed below and afford a proper period of time to protest this action prior to the plat filing. During this time, the plats will be available for review in the BLM Colorado State Office.

DATES: Unless there are protests of this action, the filing of the plats described in this notice will happen on May 6, 2016.

ADDRESSES: BLM Colorado State Office, Cadastral Survey, 2850 Youngfield Street, Lakewood, CO 80215-7093.

FOR FURTHER INFORMATION CONTACT: Randy Bloom, Chief Cadastral Surveyor for Colorado, (303) 239-3856.

Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The plat and field notes of the dependent resurvey in Township 27 South, Range 55 West, Sixth Principal Meridian, Colorado, were accepted on December 9, 2015.

The plat and field notes of the dependent resurvey and survey in Township 13 South, Range 69 West, Sixth Principal Meridian, Colorado, were accepted on January 7, 2016.

The field notes of the remonumentation of certain corners in Township 51 North, Range 8 East, New Mexico Principal Meridian, Colorado, were accepted on January 19, 2016.

The plat and field notes of the dependent resurvey and survey in Township 34 North, Range 4 West, South of the Ute Line, New Mexico Principal Meridian, Colorado, were accepted on February 11, 2016.

The plat, in 2 sheets, and field notes of the dependent resurvey and survey in Township 34 North, Range 5 West, South of the Ute Line, New Mexico Principal Meridian, Colorado, were accepted on February 11, 2016.

The plat and field notes of the dependent resurvey survey and survey in Township 36 North, Range 11 East, New Mexico Principal Meridian, Colorado, were accepted on March 9, 2016.

The plat, in 2 sheets, incorporating the field notes of the dependent resurvey and survey of Fractional Township 36 North, Range 12 East, New Mexico Principal Meridian, Colorado, was accepted on March 9, 2016.

Randy Bloom,
Chief Cadastral Surveyor for Colorado.

[FR Doc. 2016-07875 Filed 4-5-16; 8:45 am]

BILLING CODE 4310-JB-P